DEPARTMENT OF DEFENSE

Department of the Navy

[Docket ID: USN-2018-HQ-0019]

Proposed Collection; Comment Request

AGENCY: The Office of the Secretary of the Navy, DoD.

ACTION: Information collection notice.

SUMMARY: In compliance with the Paperwork Reduction Act of 1995, the U.S. Navy Judge Advocate General's Corps announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by December 28, 2018.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Judge Advocate General, ATTN: Special Assistant for Strategic Planning (SASP). 1322 Patterson Ave SE, Suite 3000, Washington Navy Yard, DC 20374-5066, or call SASP at 202-685-5185

SUPPLEMENTARY INFORMATION:

Title; Associated Form; and OMB Number: JAG Corps Student Program or Direct Accession Application and Internship/Externship Program Application; OPNAV 1070/3 Internship/Externship Program Application; OMB Control Number 0703-0059.

Needs and Uses: This information requirement is needed to determine the eligibility, competitive standing, and the scholastic and leadership potential of students and lawyers interested in the U.S. Navy Judge Advocate General's Corps (JAGC) Student Program or Direct Accession Application and Internship/Externship Program Application.

JAGC Student Program Direct Accession Application

Affected Public: Individuals or Households.

Annual Burden Hours: 1,600.

Number of Respondents: 800.

Responses per Respondent: 1.

Annual Responses: 800.

Average Burden per Response: 2 hours.

Frequency: Semi-Annually.

OPNAV 1070/3

Affected Public: Individuals or Households.

Annual Burden Hours: 100.

Number of Respondents: 100.

Responses per Respondent: 1.

Annual Responses: 100.

Average Burden per Response: 1 hour.

Frequency: Semi-Annually.

Structured Interviews

Affected Public: Individuals or Households.

Annual Burden Hours: 500.

Number of Respondents: 500.

Responses per Respondent: 1.

Annual Responses: 500.

Average Burden per Response: 1 hour.

Frequency: Semi-Annually.

Totals

Annual Burden Hours: 1,820 hours.

Total Number of Respondents: 1,400.

Total Responses per Respondent: 1.

Total Annual Responses: 1,400.

Average burden per Response: 1.3 hours.

The Student Program application is currently available two times a year; the Direct Accession application is available one time per year; the Internship application is available throughout the year for programs offered in the Summer, Fall and Spring. This online application is used to select applicants for either a voluntary internship position with a JAG Corps office or for a professional recommendation to commission in the JAG Corps. The application consists of an online form detailing academic and extracurricular achievement, professional experience if applicable, and supporting documentation.

Morgan E. Park,
Alternate OSD Federal Register, Liaison Officer, Department of Defense.

[FR Doc. 2018-23572 Filed 10-26-18; 8:45 am]

BILLING CODE 5001-06-P